DEPARTMENT OF ENERGY

Federal Energy Regulatory Commission

[Docket No. AD12-12-000]

Coordination Between Natural Gas and Electricity Markets; Notice of Technical Conferences

Take notice that the Federal Energy Regulatory Commission (Commission) staff will hold regional technical conferences on Coordination between Natural Gas and Electricity Markets. The regional technical conferences will be held on the following dates and in the following cities:¹

¹ We recognize that due to the long lines of some of the interstate pipelines, natural gas pipeline infrastructure may not neatly fit into these divisions, but find these divisions reasonable for discussing gas-electric coordination issues.

Central ²—August 6, 2012, St. Louis, MO

² For purposes of these conferences, the Central region is largely defined by the corporate boundaries of the organized wholesale electric markets of Midwest Independent Transmission System Operator Inc. (MISO), Southwest Power Pool, Inc. (SPP) and Electric Reliability Council of Texas (ERCOT). While we recognize we do not have Federal Power Act jurisdiction over the rates or terms of service in wholesale electricity markets doing business wholly within the state of Texas in ERCOT events in Texas affect, and are affected by, gas-electric coordination issues in other geographic areas and opening these discussions to all participants will permit a broader and more inclusive examination of all the relevant issues.

Northeast ³—August 20, 2012, Boston, MA

³ ISO New England, Inc. (ISO-NE).

Southeast ⁴—August 23, 2012, Washington, DC (FERC HQ)

⁴ Southern Company, Duke and Progress Energy, TVA, and other areas south of PJM Interconnection, L.L.C. (PJM) and East of SPP and ERCOT.

West ⁵—August 28, 2012, Portland, OR

⁵ The Western Interconnection.

Mid-Atlantic ⁶—August 30, 2012, Washington, DC (FERC HQ)

⁶ New York Independent System Operator Inc. (NYISO), PJM and related areas.

The regional technical conferences will be open for the public to attend. Commission members will participate in the conferences.

On February 15, 2012, in the above-mentioned docket, a notice was issued requesting comments regarding gas-electric interdependence. The commenters raised a wide variety of issues regarding gas-electric interdependence. Many of the commenters asserted that those issues differed on a regional basis. The regional technical conferences will discuss the various aspects of gas-electric interdependence and coordination, as well as ways to improve communication and coordination between the two industries.

Each conference will be organized as a roundtable discussion of the following topics: (1) Communications/coordination/information sharing; (2) scheduling; (3) market structures and rules; and (4) reliability concerns. Time permitting, comments or questions from those attending the conference, but not participating in the roundtable, will be permitted. Subsequent notices will be issued specifying the time, venue, and agenda for each conference.

Those interested in attending a conference are encouraged to register by close of business, July 19, 2012. You may register at the following Web page: http://www.ferc.gov/whats-new/registration/nat-gas-elec-mkts-form.asp. Those also interested in participating in a roundtable should notify the Commission by close of business on the same day by completing an online form identifying at which conference they wish to participate: http://www.ferc.gov/whats-new/registration/nat-gas-elec-mkts-speaker-form.asp. Due to time and seating constraints, we may not be able to accommodate all those interested in participating in the roundtables.

Information on the conferences will also be posted on the Web site http://www.ferc.gov/industries/electric/indus-act/electric-coord.asp, as well as the Calendar of Events on the Commission's Web site, http://www.ferc.gov, prior to the conferences.

Commission conferences are accessible under section 508 of the Rehabilitation Act of 1973. For accessibility accommodations, please send an email to accessibility@ferc.gov or call toll free 1-866-208-3372 (voice) or 202-208-1659 (TTY), or send a fax to 202-208-2106 with the required accommodations.

For more information about the regional technical conferences, please contact:

Pamela Silberstein, Federal Energy Regulatory Commission, 888 First Street NE., Washington, DC 20426, (202) 502-8938, Pamela.Silberstein@ferc.gov.

Sarah McKinley, Federal Energy Regulatory Commission, 888 First Street NE., Washington, DC 20426, (202) 502-8004, Sarah.McKinley@ferc.gov.

Dated: July 5, 2012.
Kimberly D. Bose,
Secretary.

[FR Doc. 2012-16997 Filed 7-11-12; 8:45 am]

BILLING CODE 6717-01-P